NATIONAL AERONAUTICS AND SPACE ADMINISTRATION

[Notice: 03-159]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted by January 29, 2004.

ADDRESSES: All comments should be addressed to Desk Officer for NASA; Office of Information and Regulatory affairs; Office of management and Budget; Room 10236; New Executive Office Building; Washington, DC 20503.

FOR FURTHER INFORMATION CONTACT: Ms. Nancy Kaplan, NASA Reports Officer, (202) 358-1372.

Title: GLOBE Program Evaluation.

OMB Number: 2700-.

Type of review: New collection.

Need and Uses: The information collected is needed to guide implementation of the GLOBE Program based on feedback from participating teachers, students, and partners in order to help meet the Program's goal of improving student achievement in mathematics and science.

Affected Public: Individuals or households.

Number of Respondents: 2361.

Annual Responses: 499.

Hours Per Request: 30-90 minutes each.

Annual Burden Hours: 373.

Frequency of Report: Once.

Dated: December 17, 2003.
Patricia L. Dunnington,
Chief Information Officer, Office of the Administrator.

[FR Doc. 03-32008 Filed 12-29-03; 8:45 am]

BILLING CODE 7510-01-M